DEPARTMENT OF THE INTERIOR

Bureau of Indian Affairs

[190A2100DD/AAKC001030/A0A501010.999900253G]

Indian Gaming; Approval of Tribal-State Class III Gaming Compact Amendment in the State of Oklahoma

AGENCY: Bureau of Indian Affairs, Interior.

ACTION: Notice.

SUMMARY: The State of Oklahoma entered into an amendment with the Osage Nation governing certain forms of class III gaming; this notice announces the approval of the Osage Nation and State of Oklahoma Gaming Compact: Non-house-banked Table Games Supplement.

DATES: The amendment takes effect on December 4, 2018.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA), 25 U.S.C. 2701 et seq., the Secretary of the Interior shall publish in the Federal Register notice of approved Tribal-State compacts for the purpose of engaging in Class III gaming activities on Indian lands. As required by IGRA and 25 CFR 293.4, all compacts and amendments are subject to review and approval by the Secretary. The amendment authorizes the Tribe to engage in certain additional class III gaming activities, provides for the application of existing revenue sharing agreements to the additional forms of class III gaming, and designates how the State will distribute revenue sharing funds.

Dated: November 16, 2018.
Tara Sweeney,
Assistant Secretary—Indian Affairs.

[FR Doc. 2018-26298 Filed 12-3-18; 8:45 am]

BILLING CODE 4337-15-P